DEPARTMENT OF JUSTICE

Antitrust Division

Notice Pursuant to the National Cooperative Research and Production Act of 1993—Telemanagement Forum

Notice is hereby given that, on April 22, 2022, pursuant to Section 6(a) of the National Cooperative Research and Production Act of 1993, 15 U.S.C. 4301 et seq. (“the Act”), TM Forum, A New Jersey Non-Profit Corporation (“The Forum”) filed written notifications simultaneously with the Attorney General and the Federal Trade Commission disclosing changes in its membership. The notifications were filed for the purpose of extending the Act's provisions limiting the recovery of antitrust plaintiffs to actual damages under specified circumstances.

Specifically, the following entities have become members of the Forum: Bit2win Srl, Roma, ITALY; ESRI, Redlands, CA; Aerospike, Mountain View, CA; CloudBlue, Irvine, CA; Lindsay Rodgers, Yorkshire, UNITED KINGDOM; Netcomp Peru, Lima, PERU; DFG CONSULTING, d.o.o., Ljubljana, SLOVENIA; Net AI Tech Ltd, Edinburgh, SCOTLAND; Effortel Technologies, Brussels, BELGIUM; Bruhati Solutions Ltd, Maidenhead, UNITED KINGDOM; MyRepublic Group Limited, Singapore, SINGAPORE; Nordcloud Oy, Helsinki, FINLAND; John Von Neumann Institute, Ho Chi Minh, VIETNAM; Mobifone Corporation, Hanoi, VIETNAM; Johan Vandenberghe, Kuurne, BELGIUM; KPMG International, London, UNITED KINGDOM; Jordan Mobile Telephone Services Company, Amman, JORDAN; ARABIAN NETWORK FOR PROJECTS LTD CO, Riyadh, SAUDI ARABIA; Ooredoo Group, Doha, QATAR; MASTEC QUADGEN WIRELESS LLP, Bangalore, INDIA; SEGMA COM, Giza, EGYPT; Business International Partners, Montevideo, URUGUAY; CENTRUM ROZWOJU SZKÓL WYŻSZYCH TEB AKADEMIA SP. Z O.O., Poznań, POLAND; Snowflake Inc., San Mateo, CA.

Also, the following members have changed their names: AsiaInfo Technologies (China) Co. Ltd., AsiaInfo Technologies (China), Inc., Beijing, PEOPLE'S REPUBLIC OF CHINA; VoltDB, Inc., Volt Active Data, Bedford, MA; InfoVista, Infovista, Herndon, VA; Six DEE Telecom Solutions Pvt Ltd, 6d Technologies, Bangalore, INDIA; PT Indosat TBK, Indosat Ooredoo Hutchison, Jakarta Pusat, INDONESIA; SATEC GROUP, alvatross by SATEC, Madrid, SPAIN.

In addition, the following parties have withdrawn as parties to this venture: American University of Ras Al Khaimah, Electronics and Communication Engineering and Computer Engineering, Ras Al Khaimah, UNITED ARAB EMIRATES; Avistas, Irving, TX; AWTG Limited, London, UNITED KINGDOM; Brno University of Technology, Faculty of Electrical Engineering and Communications, Brno, CZECH REPUBLIC; CommScope, Suwanee, GA; Consilience Technologies, Naperville, IL; Creativity Software, Surrey, UNITED KINGDOM; Eastwind, Ekaterinburg, RUSSIA; Eskadenia Software Telecom Billing, Amman, JORDAN; Fingerprint Consultancy, Cairo, EGYPT; Florida Institute of Technology, Melbourne, FL; Future Internet Consulting and Development Solutions S.L., Madrid, SPAIN; G. L. Bajaj Institute of Technology and Management, Greater Noida, INDIA; GETREVE LIMITED, London, UNITED KINGDOM; Go plc, Marsa, MALTA; HAWE Telekom Sp. z o. o., Warszawa, POLAND; Innovation Consulting Group, Riyadh, SAUDI ARABIA; Liberty Global Services B.V., Schiphol Rijk, NETHERLANDS; Manhattan College, Computer Information Systems, Riverdale, NY; Munich University of Applied Sciences, Munich, GERMANY; NMS Prime, Marienberg, GERMANY; OmniSci, San Francisco, CA; Openet, Dublin, IRELAND; Ovetix, Cape Town, SOUTH AFRICA; PortaOne, Inc, Coquitlam, CANADA; Safarifone Private Limited, Islamabad, PAKISTAN; Saudi eGovernment Program, Riyadh, SAUDI ARABIA; Smart City and Intelligent Computing Research Center of Lanzhou University, Lanzhou, PEOPLE'S REPUBLIC OF CHINA; Stevens Institute of Technology, Hoboken, NJ; Synergy Consulting, Dubai, UNITED ARAB EMIRATES; Teradata Corporation, San Diego, CA; Triple-Innovations Ltd, Zagreb, CROATIA; Universidad Pontificia Bolivariana, Engineering Faculty in Information and Communication Technology, Medellin, COLOMBIA; University of Antwerp, Department of Mathematics and Computer Science, Antwerp, BELGIUM; University of Split, Faculty of Electrical Engineering, Mechanical Engineering, and Naval Architecture, Split, CROATIA; University of Texas M.D. Anderson Cancer Center, Houston, TX; Vanrise Solutions, Beirut, LEBANON; Virgin Media, Hook, UNITED KINGDOM; Zeotap GmbH, Berlin, GERMANY; Z-Lift Solutions Inc., Makati City, PHILIPPINES; ZDSL.com, Kuala Lumpur, MALAYSIA.

No other changes have been made in either the membership or planned activity of the group research project. Membership in this group research project remains open and TM Forum intends to file additional written notifications disclosing all changes in membership.

On October 21, 1988, TM Forum filed its original notification pursuant to Section 6(a) of the Act. The Department of Justice published a notice in the Federal Register pursuant to Section 6(b) of the Act on December 8, 1988 (53 FR 49615).

The last notification was filed with the Department on January 26, 2022. A notice was published in the Federal Register pursuant to Section 6(b) of the Act on March 10, 2022 (87 FR 13759).

Suzanne Morris,
Chief, Premerger and Division Statistics, Antitrust Division.

[FR Doc. 2022-11515 Filed 5-27-22; 8:45 am]

BILLING CODE 4410-11-P